DEPARTMENT OF TRANSPORTATION

Federal Highway Administration

[Docket No. FHWA-2007-26824]

Notice of Request for Extension of Currently Approved Information Collection

AGENCY: Federal Highway Administration (FHWA), DOT.

ACTION: Notice and request for comments.

SUMMARY: The FHWA has forwarded the information collection request described in this notice to the Office of Management and Budget (OMB) to renew an information collection. We published a Federal Register Notice with a 60-day public comment period on this information collection on November 7, 2006. We are required to publish this notice in the Federal Register by the Paperwork Reduction Act of 1995.

DATES: Please submit comments by February 15, 2007.

ADDRESSES: You may send comments, within 30 days, to the Office of Information and Regulatory Affairs, Office of Management and Budget, 725 17th Street, NW., Washington, DC 20503, Attention DOT Desk Officer. You are asked to comment on any aspect of this information collection, including: (1) Whether the proposed collection is necessary for the FHWA's performance; (2) the accuracy of the estimated burden; (3) ways for the FHWA to enhance the quality, usefulness, and clarity of the collected information and (4) ways that the burden could be minimized, including the use of electronic technology, without reducing the quality of the collected information. All comments should include the Docket number FHWA-2007-26824.

FOR FURTHER INFORMATION CONTACT: David Walterscheid, (720) 963-3073, Office of Real Estate Services, Federal Highway Administration, Department of Transportation, 400 Seventh Street, SW., Washington, DC 20590. Office hours are from 7:30 a.m. to 4 p.m., Monday through Friday, except Federal holidays.

SUPPLEMENTARY INFORMATION: Title: State Right-of-Way Operations Manuals.

OMB Control Number: 2125-0586.

Background: Section 23, of the Code of Federal Regulations Part 710, reduces Federal regulatory requirements and places primary responsibility for a number of approval actions at the State level. Part 710.201 requires that States must certify at 5-year intervals that their State Right-of-Way Operations Manuals are representative of their procedures, or submit an updated manual. State Transportation Departments (STDs) are required to update their manuals to reflect changes in Federal requirements for programs administered under Title 23 U.S.C. These manuals reflect how the STDs plan to perform real estate acquisition and property management, and maintain the integrity of the right-of-way for highway and related transportation systems. The State manuals may be submitted to FHWA electronically or they can be made available by postings on State Web sites.

Respondents: 50 State Departments of Transportation, the District of Columbia and Puerto Rico.

Frequency: The States update their operations manuals for review annually.

Estimated Average Burden per Response: 75 hours per respondent.

Estimated Total Annual Burden Hours: The total is 3,900 burden hours annually.

Authority: The Paperwork Reduction Act of 1995; 44 U.S.C. Chapter 35, as amended; and 49 CFR 1.48.

Issued on: January 9, 2007.
James R. Kabel,
Chief, Management Programs and Analysis, Division.

[FR Doc. E7-395 Filed 1-12-07; 8:45 am]

BILLING CODE 4910-22-P